ENVIRONMENTAL PROTECTION AGENCY

[FRL OP-OFA-114]

Environmental Impact Statements; Notice of Availability

Responsible Agency: Office of Federal Activities, General Information 202-564-5632 or https://www.epa.gov/nepa.

Weekly receipt of Environmental Impact Statements (EIS)

Filed February 26, 2024 10 a.m. EST Through March 4, 2024 10 a.m. EST

Pursuant to 40 CFR 1506.9.

Notice

Section 309(a) of the Clean Air Act requires that EPA make public its comments on EISs issued by other Federal agencies. EPA's comment letters on EISs are available at: https://cdxapps.epa.gov/cdx-enepa-II/public/action/eis/search.

EIS No. 20240037, Draft, DOE, NAT, Department of Energy Activities in Support of Commercial Production of High-Assay Low-Enriched Uranium (HALEU), Comment Period Ends: 04/22/2024, Contact: James Lovejoy 208-526-6805.

EIS No. 20240038, Draft, BLM, USFS, UT, Bears Ears National Monument Draft Resource Management Plan, Comment Period Ends: 06/11/2024, Contact: Jill Stephenson 435-259-2141.

EIS No. 20240039, Final Supplement, BR, CO, Near-term Colorado River Operations Final Supplemental EIS, Review Period Ends: 04/08/2024, Contact: Genevieve Johnson 702-293-8054.

Dated: March 5, 2024.
Cindy S. Barger,
Director, NEPA Compliance Division, Office of Federal Activities.

[FR Doc. 2024-04957 Filed 3-7-24; 8:45 am]

BILLING CODE 6560-50-P